SMALL BUSINESS ADMINISTRATION

Women-Owned Small Business Federal Contract Program NAICS Code Updates

AGENCY: U.S. Small Business Administration.

ACTION: Notice of Updated NAICS Codes for Use in the Women-Owned Small Business Federal Contract Program.

SUMMARY: The U.S. Small Business Administration (SBA) is updating the North American Industry Classification System (NAICS) codes authorized for use in the Women-Owned Small Business (WOSB) Federal Contract Program (WOSB Program). The update is being made to reflect the U.S. Office of Management and Budget's (OMB) NAICS revision for 2017, identified as NAICS 2017. NAICS 2017 created 21 new industries by reclassifying, combining, or splitting 29 NAICS 2012 industry codes. These changes would impact eight (8) of the 2012 NAICS codes designated for use under the WOSB Program.

DATES: The designations of industries contained in this notice apply to all solicitations issued on or after October 1, 2017.

FOR FURTHER INFORMATION CONTACT: Amy Kim, Office of Government Contracting, 409 3rd Street SW., Washington, DC 20416, wosb@sba.gov.

SUPPLEMENTARY INFORMATION:

1. Background

Under section 8(m) of the Small Business Act, 15 U.S.C. 637(m), SBA is responsible for implementing and administering the WOSB Program, which went into effect on February 4, 2011. 75 FR 62258 (February 4, 2011). The WOSB Program authorizes Federal contracting officers to restrict competition for an acquisition to WOSBs, provided that the following conditions are met: (1) The acquisition is for a good or service assigned a NAICS code in which SBA has determined that WOSBs are substantially underrepresented; (2) There is a reasonable expectation that at least two WOSBs will submit offers; and (3) The award will be made at a fair and reasonable price. The WOSB Program also authorizes contracting officers to award a sole source contract to a WOSB if only one WOSB can perform the contract at a fair and reasonable price.

In addition, Economically Disadvantaged Women-Owned Small Businesses (EDWOSBs) can likewise receive set-asides and sole source awards similar to those described above in NAICS codes in which SBA has determined that WOSBs are underrepresented.

In order to identify the industries eligible for set-asides under the WOSB Program, the Small Business Act required the SBA Administrator to periodically conduct a study to identify those industries in which small business concerns owned and controlled by women are underrepresented in Federal contracting. 15 U.S.C. 637(m)(4).

Pursuant to that statutory requirement, SBA awarded a contract to the Kauffman-RAND Institute for Entrepreneurship Public Policy (RAND) to complete a study of the underrepresentation of WOSBs in Federal prime contracts by industry code. The RAND study was published in April 2007.¹ SBA used the results of the RAND study to designate 83 four-digit NAICS industry groups where WOSBs were found to be either underrepresented or substantially underrepresented in Federal contracting and therefore eligible for contracting under the WOSB Program. In October 2010, SBA published a Final Rule identifying those eligible NAICS codes. 75 FR 62258 (October 7, 2010).

¹ The RAND study is available to the public at https://www.rand.org/pubs/technical_reports/TR442.html.

In 2014, Congress amended the Small Business Act to require SBA to submit a report to Congress reflecting the results of a new study by January 2, 2016, and then continue to conduct a new study every five years. Public Law 113-291 825(c) (Dec. 19, 2014). In response to this statutory mandate, SBA asked the Office of the Chief Economist (OCE) of the U.S. Department of Commerce for assistance in conducting a new study of the WOSB Program. OCE looked at whether, holding constant various factors that might influence the award of a contract, the odds of winning Federal prime contracts by firms that were owned by women were greater or less than the odds of winning them by otherwise similar businesses.²

² The OCE study is available to the public at https://www.sba.gov/sites/default/files/wosb_study_report.pdf.

As a result of the OCE study findings, SBA increased the number of 2012 NAICS codes authorized for use under the WOSB Program to 113 four-digit NAICS industry groups, effective March 3, 2016. 81 FR 11340 (March 3, 2016). Consequently, WOSBs have been able to compete for and receive contract awards in 92 four-digit NAICS industry groups or 365 six-digit NAICS codes. EDWOSBs have been able to compete for and receive contract awards in 21 designated four-digit NAICS industry groups or 80 six-digit NAICS codes, in addition to those authorized for WOSBs.

On August 8, 2016, OMB published its most recent update to the NAICS industry groups, NAICS 2017, “Notice of NAICS 2017 final decisions,” in the Federal Register. 81 FR 52584 (August 8, 2016). The Notice of NAICS 2017 final decisions stated that Federal statistical establishment data published for years beginning on or after January 1, 2017, should be published using NAICS 2017. Accordingly, on April 18, 2017, SBA published a proposed rule seeking comments on its proposed size standards under NAICS 2017. 82 FR 18523 (April 18, 2017). A final rule which adopted the revisions to small business size standards as proposed was published in the Federal Register on September 27, 2017. 82 FR 44886 (September 27, 2017).

In order to align the WOSB Program with the Notice of NAICS 2017 final decisions and SBA's adoption of NAICS 2017 for its size standards, SBA is issuing this notice to amend the NAICS codes eligible for use under the WOSB Program.

2. Changes in Eligible NAICS Codes

After review and comparison of the NAICS 2012 and NAICS 2017 industry groups, SBA has determined that NAICS 2017 reduces the number of four-digit NAICS industry groups eligible for procurements under the WOSB Program from 113 to 112 because NAICS 2017 merged two NAICS 2012 industry groups, NAICS 5171 and 5172, into one—5173.³

³ Under the 2012 NAICS and the OCE study, 5171 was eligible for EDWOSB contracts, while 5172 was eligible for WOSB contracts. Despite the merging of these industry codes at the four-digit level to NAICS code 5173, the six-digit NAICS code 517110 will remain eligible for EDWOSB contracts and the six-digit NAICS code 517210 will remain eligible for WOSB contracts. Therefore, eligible NAICS codes at the six-digit NAICS level will remain aligned with the findings of the OCE study.

NAICS 2017 also reduces the number of eligible six-digit NAICS codes for WOSBs to compete in under the WOSB Program from 365 to 364. The number of eligible six-digit NAICS codes for EDWOSBs to compete in under the WOSB Program (80 NAICS codes) remains the same.

The changes to the eligible six-digit NAICS industry groups resulted from the following updates in the NAICS 2017:

NAICS 2017 created new four-digit NAICS industries by merging NAICS 2012 industries. As a result of the merges, the following changes are made to the six-digit NAICS codes eligible for WOSBs under the WOSB Program:

• 2012 NAICS codes 333911 and 333913 are merged into 2017 NAICS code 333914; and

• 2012 NAICS codes 512210 and 512220 are merged into 2017 NAICS code 512250.

Additionally, six-digit NAICS codes were changed without changing their definitions or titles. In order to accommodate these changes, the following six-digit NAICS codes eligible under the WOSB Program will be revised as follows:

• 2012 NAICS code 517110 will be changed to 2017 NAICS code 517311; and

• 2012 NAICS code 517210 will be changed to 2017 NAICS code 517312

EDWOSBs are eligible to pursue set-aside or sole source contracts with 2017 NAICS code 517311. For their part, WOSBs are eligible to compete for set-aside or sole source contracts with 2017 NAICS code 517312.

Under NAICS 2017, new industries were created by splitting two industries into two parts with one part of each industry defined as a separate industry and combining other parts of the two industries to form a separate new industry. As a result of this change, the following six-digit NAICS codes eligible for WOSBs under the WOSB Program will be amended as follows:

• 2012 NAICS code 541711 will correspond to 2017 NAICS codes 541713 and 541714; and

• 2012 NAICS code 541712 will correspond to 2017 NAICS codes 541713 and 541715.

Table 1, WOSB NAICS Code Changes from NAICS 2012 to NAICS 2017, illustrates the six-digit WOSB and EDWOSB NAICS codes that are being updated as a result of implementing 2017 NAICS.

Table 1—WOSB NAICS Code Changes From NAICS 2012 to NAICS 2017
NAICS 2012: 6-Digit | NAICS 2012: Description | NAICS 2012: WOSB/ EDWOSB | NAICS 2017: 6-Digit | NAICS 2017: Description | NAICS 2017: WOSB/ EDWOSB
333911 | Pump and Pumping Equipment Manufacturing | WOSB | 333914 | Measuring, Dispensing, and Other Pumping Equipment Manufacturing | WOSB
333913 | Measuring and Dispensing Pump Manufacturing | WOSB | 333914 | Measuring, Dispensing, and Other Pumping Equipment Manufacturing | WOSB
512210 | Record Production | WOSB | 512250 | Record Production and Distribution | WOSB
512220 | Integrated Record Production/Distribution | WOSB | 512250 | Record Production and Distribution | WOSB
517110 | Wired Telecommunications Carriers | EDWOSB | 517311 | Wired Telecommunications Carriers | EDWOSB
517210 | Wireless Telecommunications Carriers (except Satellite) | WOSB | 517312 | Wireless Telecommunications Carriers (except Satellite) | WOSB
541711 | Research and Development in Biotechnology | WOSB | 541713 | Research and Development in Nanotechnology | WOSB
|  |  | 541714 | Research and Development in Biotechnology (except Nanobiotechnology) | WOSB
541712 | Research and Development in the Physical, Engineering, and Life Sciences (except Biotechnology) | WOSB | 541713 | Research and Development in Nanotechnology | WOSB
|  |  | 541715 | Research and Development in the Physical, Engineering, and Life Sciences (except Nanotechnology and Biotechnology) | WOSB

Table 2, 2017 NAICS Codes Authorized for Use under the WOSB Program—WOSB, indicates all 364 six-digit NAICS codes available for use for WOSB set-aside and sole source procurement under the WOSB Program.

Table 2—2017 NAICS Codes Authorized for Use Under the WOSB Program—WOSB
4-Digit | 6-Digit | Women owned small business 2017 NAICS description | WOSB/ EDWOSB
1153 |  | Support Activities for Forestry
| 115310 | Support Activities for Forestry | WOSB
2213 |  | Water, Sewage and Other Systems
| 221310 | Water Supply and Irrigation Systems | WOSB
| 221320 | Sewage Treatment Facilities | WOSB
| 221330 | Steam and Air-Conditioning Supply | WOSB
2361 |  | Residential Building Construction
| 236115 | New Single-Family Housing Construction (except For-Sale Builders) | WOSB
| 236116 | New Multifamily Housing Construction (except For-Sale Builders) | WOSB
| 236117 | New Housing For-Sale Builders | WOSB
| 236118 | Residential Remodelers | WOSB
2362 |  | Nonresidential Building Construction
| 236210 | Industrial Building Construction | WOSB
| 236220 | Commercial and Institutional Building Construction | WOSB
2371 |  | Utility System Construction
| 237110 | Water and Sewer Line and Related Structures Construction | WOSB
| 237120 | Oil and Gas Pipeline and Related Structures Construction | WOSB
| 237130 | Power and Communication Line and Related Structures Construction | WOSB
2373 |  | Highway, Street, and Bridge Construction
| 237310 | Highway, Street, and Bridge Construction | WOSB
2379 |  | Other Heavy and Civil Engineering Construction
| 237990 | Other Heavy and Civil Engineering Construction | WOSB
2381 |  | Foundation, Structure, and Building Exterior Contractors
| 238110 | Poured Concrete Foundation and Structure Contractors | WOSB
| 238120 | Structural Steel and Precast Concrete Contractors | WOSB
| 238130 | Framing Contractors | WOSB
| 238140 | Masonry Contractors | WOSB
| 238150 | Glass and Glazing Contractors | WOSB
| 238160 | Roofing Contractors | WOSB
| 238170 | Siding Contractors | WOSB
| 238190 | Other Foundation, Structure, and Building Exterior Contractors | WOSB
2382 |  | Building Equipment Contractors
| 238210 | Electrical Contractors and Other Wiring Installation Contractors | WOSB
| 238220 | Plumbing, Heating, and Air-Conditioning Contractors | WOSB
| 238290 | Other Building Equipment Contractors | WOSB
2383 |  | Building Finishing Contractors
| 238310 | Drywall and Insulation Contractors | WOSB
| 238320 | Painting and Wall Covering Contractors | WOSB
| 238330 | Flooring Contractors | WOSB
| 238340 | Tile and Terrazzo Contractors | WOSB
| 238350 | Finish Carpentry Contractors | WOSB
| 238390 | Other Building Finishing Contractors | WOSB
2389 |  | Other Specialty Trade Contractors
| 238910 | Site Preparation Contractors | WOSB
| 238990 | All Other Specialty Trade Contractors | WOSB
3114 |  | Fruit and Vegetable Preserving and Specialty Food Manufacturing |
| 311411 | Frozen Fruit, Juice, and Vegetable Manufacturing | WOSB
| 311412 | Frozen Specialty Food Manufacturing | WOSB
| 311421 | Fruit and Vegetable Canning | WOSB
| 311422 | Specialty Canning | WOSB
| 311423 | Dried and Dehydrated Food Manufacturing | WOSB
3118 |  | Bakeries and Tortilla Manufacturing
| 311811 | Retail Bakeries | WOSB
| 311812 | Commercial Bakeries | WOSB
| 311813 | Frozen Cakes, Pies, and Other Pastries Manufacturing | WOSB
| 311821 | Cookie and Cracker Manufacturing | WOSB
| 311824 | Dry Pasta, Dough, and Flour Mixes Manufacturing from Purchased Flour | WOSB
| 311830 | Tortilla Manufacturing | WOSB
3141 |  | Textile Furnishings Mills
| 314110 | Carpet and Rug Mills | WOSB
| 314120 | Curtain and Linen Mills | WOSB
3149 |  | Other Textile Product Mills
| 314910 | Textile Bag and Canvas Mills | WOSB
| 314994 | Rope, Cordage, Twine, Tire Cord, and Tire Fabric Mills | WOSB
| 314999 | All Other Miscellaneous Textile Product Mills | WOSB
3231 |  | Printing and Related Support Activities
| 323111 | Commercial Printing (except Screen and Books) | WOSB
| 323113 | Commercial Screen Printing | WOSB
| 323117 | Books Printing | WOSB
| 323120 | Support Activities for Printing | WOSB
3241 |  | Petroleum and Coal Products Manufacturing
| 324110 | Petroleum Refineries | WOSB
| 324121 | Asphalt Paving Mixture and Block Manufacturing | WOSB
| 324122 | Asphalt Shingle and Coating Materials Manufacturing | WOSB
| 324191 | Petroleum Lubricating Oil and Grease Manufacturing | WOSB
| 324199 | All Other Petroleum and Coal Products Manufacturing | WOSB
3323 |  | Architectural and Structural Metals Manufacturing
| 332311 | Prefabricated Metal Building and Component Manufacturing | WOSB
| 332312 | Fabricated Structural Metal Manufacturing | WOSB
| 332313 | Plate Work Manufacturing | WOSB
| 332321 | Metal Window and Door Manufacturing | WOSB
| 332322 | Sheet Metal Work Manufacturing | WOSB
| 332323 | Ornamental and Architectural Metal Work Manufacturing | WOSB
3324 |  | Boiler, Tank, and Shipping Container Manufacturing
| 332410 | Power Boiler and Heat Exchanger Manufacturing | WOSB
| 332420 | Metal Tank (Heavy Gauge) Manufacturing | WOSB
| 332431 | Metal Can Manufacturing | WOSB
| 332439 | Other Metal Container Manufacturing | WOSB
3325 |  | Hardware Manufacturing
| 332510 | Hardware Manufacturing | WOSB
3328 |  | Coating, Engraving, Heat Treating, and Allied Activities
| 332811 | Metal Heat Treating | WOSB
| 332812 | Metal Coating, Engraving (except Jewelry and Silverware), and Allied Services to Manufacturers | WOSB
| 332813 | Electroplating, Plating, Polishing, Anodizing, and Coloring | WOSB
3329 |  | Other Fabricated Metal Product Manufacturing
| 332911 | Industrial Valve Manufacturing | WOSB
| 332912 | Fluid Power Valve and Hose Fitting Manufacturing | WOSB
| 332913 | Plumbing Fixture Fitting and Trim Manufacturing | WOSB
| 332919 | Other Metal Valve and Pipe Fitting Manufacturing | WOSB
| 332991 | Ball and Roller Bearing Manufacturing | WOSB
| 332992 | Small Arms Ammunition Manufacturing | WOSB
| 332993 | Ammunition (except Small Arms) Manufacturing | WOSB
| 332994 | Small Arms, Ordnance, and Ordnance Accessories Manufacturing | WOSB
| 332996 | Fabricated Pipe and Pipe Fitting Manufacturing | WOSB
| 332999 | All Other Miscellaneous Fabricated Metal Product Manufacturing | WOSB
3331 |  | Agriculture, Construction, and Mining Machinery Manufacturing
| 333111 | Farm Machinery and Equipment Manufacturing | WOSB
| 333112 | Lawn and Garden Tractor and Home Lawn and Garden Equipment Manufacturing | WOSB
| 333120 | Construction Machinery Manufacturing | WOSB
| 333131 | Mining Machinery and Equipment Manufacturing | WOSB
| 333132 | Oil and Gas Field Machinery and Equipment Manufacturing | WOSB
3334 |  | Ventilation, Heating, Air-Conditioning, and Commercial Refrigeration Equipment Manufacturing
| 333413 | Industrial and Commercial Fan and Blower and Air Purification Equipment Manufacturing | WOSB
| 333414 | Heating Equipment (except Warm Air Furnaces) Manufacturing | WOSB
| 333415 | Air-Conditioning and Warm Air Heating Equipment and Commercial and Industrial Refrigeration Equipment Manufacturing | WOSB
3335 |  | Metalworking Machinery Manufacturing
| 333511 | Industrial Mold Manufacturing | WOSB
| 333514 | Special Die and Tool, Die Set, Jig, and Fixture Manufacturing | WOSB
| 333515 | Cutting Tool and Machine Tool Accessory Manufacturing | WOSB
| 333517 | Machine Tool Manufacturing | WOSB
| 333519 | Rolling Mill and Other Metalworking Machinery Manufacturing | WOSB
3339 |  | Other General Purpose Machinery Manufacturing
| 333912 | Air and Gas Compressor Manufacturing | WOSB
| 333914 | Measuring, Dispensing, and Other Pumping Equipment Manufacturing | WOSB
| 333921 | Elevator and Moving Stairway Manufacturing | WOSB
| 333922 | Conveyor and Conveying Equipment Manufacturing | WOSB
| 333923 | Overhead Traveling Crane, Hoist, and Monorail System Manufacturing | WOSB
| 333924 | Industrial Truck, Tractor, Trailer, and Stacker Machinery Manufacturing | WOSB
| 333991 | Power-Driven Handtool Manufacturing | WOSB
| 333992 | Welding and Soldering Equipment Manufacturing | WOSB
| 333993 | Packaging Machinery Manufacturing | WOSB
| 333994 | Industrial Process Furnace and Oven Manufacturing | WOSB
| 333995 | Fluid Power Cylinder and Actuator Manufacturing | WOSB
| 333996 | Fluid Power Pump and Motor Manufacturing | WOSB
| 333997 | Scale and Balance Manufacturing | WOSB
| 333999 | All Other Miscellaneous General Purpose Machinery Manufacturing | WOSB
3345 |  | Navigational, Measuring, Electromedical, and Control Instruments Manufacturing
| 334510 | Electromedical and Electrotherapeutic Apparatus Manufacturing | WOSB
| 334511 | Search, Detection, Navigation, Guidance, Aeronautical, and Nautical System and Instrument Manufacturing | WOSB
| 334512 | Automatic Environmental Control Manufacturing for Residential, Commercial, and Appliance Use | WOSB
| 334513 | Instruments and Related Products Manufacturing for Measuring, Displaying, and Controlling Industrial Process Variables | WOSB
| 334514 | Totalizing Fluid Meter and Counting Device Manufacturing | WOSB
| 334515 | Instrument Manufacturing for Measuring and Testing Electricity and Electrical Signals | WOSB
| 334516 | Analytical Laboratory Instrument Manufacturing | WOSB
| 334517 | Irradiation Apparatus Manufacturing | WOSB
| 334519 | Other Measuring and Controlling Device Manufacturing | WOSB
3346 |  | Manufacturing and Reproducing Magnetic and Optical Media
| 334613 | Blank Magnetic and Optical Recording Media Manufacturing | WOSB
| 334614 | Software and Other Prerecorded Compact Disc, Tape, and Record Reproducing | WOSB
3363 |  | Motor Vehicle Parts Manufacturing
| 336310 | Motor Vehicle Gasoline Engine and Engine Parts Manufacturing | WOSB
| 336320 | Motor Vehicle Electrical and Electronic Equipment Manufacturing | WOSB
| 336330 | Motor Vehicle Steering and Suspension Components (except Spring) Manufacturing | WOSB
| 336340 | Motor Vehicle Brake System Manufacturing | WOSB
| 336350 | Motor Vehicle Transmission and Power Train Parts Manufacturing | WOSB
| 336360 | Motor Vehicle Seating and Interior Trim Manufacturing | WOSB
| 336370 | Motor Vehicle Metal Stamping | WOSB
| 336390 | Other Motor Vehicle Parts Manufacturing | WOSB
3369 |  | Other Transportation Equipment Manufacturing
| 336991 | Motorcycle, Bicycle, and Parts Manufacturing | WOSB
| 336992 | Military Armored Vehicle, Tank, and Tank Component Manufacturing | WOSB
| 336999 | All Other Transportation Equipment Manufacturing | WOSB
3371 |  | Household and Institutional Furniture and Kitchen Cabinet Manufacturing
| 337110 | Wood Kitchen Cabinet and Countertop Manufacturing | WOSB
| 337121 | Upholstered Household Furniture Manufacturing | WOSB
| 337122 | Nonupholstered Wood Household Furniture Manufacturing | WOSB
| 337124 | Metal Household Furniture Manufacturing | WOSB
| 337125 | Household Furniture (except Wood and Metal) Manufacturing | WOSB
| 337127 | Institutional Furniture Manufacturing | WOSB
3391 |  | Medical Equipment and Supplies Manufacturing
| 339112 | Surgical and Medical Instrument Manufacturing | WOSB
| 339113 | Surgical Appliance and Supplies Manufacturing | WOSB
| 339114 | Dental Equipment and Supplies Manufacturing | WOSB
| 339115 | Ophthalmic Goods Manufacturing | WOSB
| 339116 | Dental Laboratories | WOSB
3399 |  | Other Miscellaneous Manufacturing
| 339910 | Jewelry and Silverware Manufacturing | WOSB
| 339920 | Sporting and Athletic Goods Manufacturing | WOSB
| 339930 | Doll, Toy, and Game Manufacturing | WOSB
| 339940 | Office Supplies (except Paper) Manufacturing | WOSB
| 339950 | Sign Manufacturing | WOSB
| 339991 | Gasket, Packing, and Sealing Device Manufacturing | WOSB
| 339992 | Musical Instrument Manufacturing | WOSB
| 339993 | Fastener, Button, Needle, and Pin Manufacturing | WOSB
| 339994 | Broom, Brush, and Mop Manufacturing | WOSB
| 339995 | Burial Casket Manufacturing | WOSB
| 339999 | All Other Miscellaneous Manufacturing | WOSB
4831 |  | Deep Sea, Coastal, and Great Lakes Water Transportation
| 483111 | Deep Sea Freight Transportation | WOSB
| 483112 | Deep Sea Passenger Transportation | WOSB
| 483113 | Coastal and Great Lakes Freight Transportation | WOSB
| 483114 | Coastal and Great Lakes Passenger Transportation | WOSB
4842 |  | Specialized Freight Trucking
| 484210 | Used Household and Office Goods Moving | WOSB
| 484220 | Specialized Freight (except Used Goods) Trucking, Local | WOSB
| 484230 | Specialized Freight (except Used Goods) Trucking, Long-Distance | WOSB
4884 |  | Support Activities for Road Transportation
| 488410 | Motor Vehicle Towing | WOSB
| 488490 | Other Support Activities for Road Transportation | WOSB
4931 |  | Warehousing and Storage
| 493110 | General Warehousing and Storage | WOSB
| 493120 | Refrigerated Warehousing and Storage | WOSB
| 493130 | Farm Product Warehousing and Storage | WOSB
| 493190 | Other Warehousing and Storage | WOSB
5111 |  | Newspaper, Periodical, Book, and Directory Publishers
| 511110 | Newspaper Publishers | WOSB
| 511120 | Periodical Publishers | WOSB
| 511130 | Book Publishers | WOSB
| 511140 | Directory and Mailing List Publishers | WOSB
| 511191 | Greeting Card Publishers | WOSB
| 511199 | All Other Publishers | WOSB
5112 |  | Software Publishers
| 511210 | Software Publishers | WOSB
5121 |  | Motion Picture and Video Industries
| 512110 | Motion Picture and Video Production | WOSB
| 512120 | Motion Picture and Video Distribution | WOSB
| 512131 | Motion Picture Theaters (except Drive-Ins) | WOSB
| 512132 | Drive-In Motion Picture Theaters | WOSB
| 512191 | Teleproduction and Other Postproduction Services | WOSB
| 512199 | Other Motion Picture and Video Industries | WOSB
5122 |  | Sound Recording Industries
| 512230 | Music Publishers | WOSB
| 512240 | Sound Recording Studios | WOSB
| 512250 | Record Production and Distribution | WOSB
| 512290 | Other Sound Recording Industries | WOSB
5151 |  | Radio and Television Broadcasting
| 515111 | Radio Networks | WOSB
| 515112 | Radio Stations | WOSB
| 515120 | Television Broadcasting | WOSB
5173 |  | Wired and Wireless Telecommunications Carriers
| 517312 | Wireless Telecommunications Carriers (except Satellite) | WOSB
5174 |  | Satellite Telecommunications
| 517410 | Satellite Telecommunications | WOSB
5179 |  | Other Telecommunications
| 517911 | Telecommunications Resellers | WOSB
| 517919 | All Other Telecommunications | WOSB
5182 |  | Data Processing, Hosting, and Related Services
| 518210 | Data Processing, Hosting, and Related Services | WOSB
5191 |  | Other Information Services
| 519110 | News Syndicates | WOSB
| 519120 | Libraries and Archives | WOSB
| 519130 | Internet Publishing and Broadcasting and Web Search Portals | WOSB
| 519190 | All Other Information Services | WOSB
5241 |  | Insurance Carriers
| 524113 | Direct Life Insurance Carriers | WOSB
| 524114 | Direct Health and Medical Insurance Carriers | WOSB
| 524126 | Direct Property and Casualty Insurance Carriers | WOSB
| 524127 | Direct Title Insurance Carriers | WOSB
| 524128 | Other Direct Insurance (except Life, Health, and Medical) Carriers | WOSB
| 524130 | Reinsurance Carriers | WOSB
5242 |  | Agencies, Brokerages, and Other Insurance Related Activities
| 524210 | Insurance Agencies and Brokerages | WOSB
| 524291 | Claims Adjusting | WOSB
| 524292 | Third Party Administration of Insurance and Pension Funds | WOSB
| 524298 | All Other Insurance Related Activities | WOSB
5321 |  | Automotive Equipment Rental and Leasing
| 532111 | Passenger Car Rental | WOSB
| 532112 | Passenger Car Leasing | WOSB
| 532120 | Truck, Utility Trailer, and RV (Recreational Vehicle) Rental and Leasing | WOSB
5324 |  | Commercial and Industrial Machinery and Equipment Rental and Leasing
| 532411 | Commercial Air, Rail, and Water Transportation Equipment Rental and Leasing | WOSB
| 532412 | Construction, Mining, and Forestry Machinery and Equipment Rental and Leasing | WOSB
| 532420 | Office Machinery and Equipment Rental and Leasing | WOSB
| 532490 | Other Commercial and Industrial Machinery and Equipment Rental and Leasing | WOSB
5411 |  | Legal Services
| 541110 | Offices of Lawyers | WOSB
| 541191 | Title Abstract and Settlement Offices | WOSB
| 541199 | All Other Legal Services | WOSB
5412 |  | Accounting, Tax Preparation, Bookkeeping, and Payroll Services
| 541211 | Offices of Certified Public Accountants | WOSB
| 541213 | Tax Preparation Services | WOSB
| 541214 | Payroll Services | WOSB
| 541219 | Other Accounting Services | WOSB
5413 |  | Architectural, Engineering, and Related Services
| 541310 | Architectural Services | WOSB
| 541320 | Landscape Architectural Services | WOSB
| 541330 | Engineering Services | WOSB
| 541340 | Drafting Services | WOSB
| 541350 | Building Inspection Services | WOSB
| 541360 | Geophysical Surveying and Mapping Services | WOSB
| 541370 | Surveying and Mapping (except Geophysical) Services | WOSB
| 541380 | Testing Laboratories | WOSB
5415 |  | Computer Systems Design and Related Services. |
| 541511 | Custom Computer Programming Services | WOSB
| 541512 | Computer Systems Design Services | WOSB
| 541513 | Computer Facilities Management Services | WOSB
| 541519 | Other Computer Related Services | WOSB
5416 |  | Management, Scientific, and Technical Consulting Services
| 541611 | Administrative Management and General Management Consulting Services | WOSB
| 541612 | Human Resources Consulting Services | WOSB
| 541613 | Marketing Consulting Services | WOSB
| 541614 | Process, Physical Distribution, and Logistics Consulting Services | WOSB
| 541618 | Other Management Consulting Services | WOSB
| 541620 | Environmental Consulting Services | WOSB
| 541690 | Other Scientific and Technical Consulting Services | WOSB
5417 |  | Scientific Research and Development Services
| 541713 | Research and Development in Nanotechnology | WOSB
| 541714 | Research and Development in Biotechnology (except Nanobiotechnology) | WOSB
| 541715 | Research and Development in the Physical, Engineering, and Life Sciences (except Nanotechnology and Biotechnology) | WOSB
| 541720 | Research and Development in the Social Sciences and Humanities | WOSB
5418 |  | Advertising, Public Relations, and Related Services
| 541810 | Advertising Agencies | WOSB
| 541820 | Public Relations Agencies | WOSB
| 541830 | Media Buying Agencies | WOSB
| 541840 | Media Representatives | WOSB
| 541850 | Outdoor Advertising | WOSB
| 541860 | Direct Mail Advertising | WOSB
| 541870 | Advertising Material Distribution Services | WOSB
| 541890 | Other Services Related to Advertising | WOSB
5419 |  | Other Professional, Scientific, and Technical Services
| 541910 | Marketing Research and Public Opinion Polling | WOSB
| 541921 | Photography Studios, Portrait | WOSB
| 541922 | Commercial Photography | WOSB
| 541930 | Translation and Interpretation Services | WOSB
| 541940 | Veterinary Services | WOSB
| 541990 | All Other Professional, Scientific, and Technical Services | WOSB
5612 |  | Facilities Support Services
| 561210 | Facilities Support Services | WOSB
5615 |  | Travel Arrangement and Reservation Services
| 561510 | Travel Agencies | WOSB
| 561520 | Tour Operators | WOSB
| 561591 | Convention and Visitors Bureaus | WOSB
| 561599 | All Other Travel Arrangement and Reservation Services | WOSB
5616 |  | Investigation and Security Services
| 561611 | Investigation Services | WOSB
| 561612 | Security Guards and Patrol Services | WOSB
| 561613 | Armored Car Services | WOSB
| 561621 | Security Systems Services (except Locksmiths) | WOSB
| 561622 | Locksmiths | WOSB
5617 |  | Services to Buildings and Dwellings
| 561710 | Exterminating and Pest Control Services | WOSB
| 561720 | Janitorial Services | WOSB
| 561730 | Landscaping Services | WOSB
| 561740 | Carpet and Upholstery Cleaning Services | WOSB
| 561790 | Other Services to Buildings and Dwellings | WOSB
5619 |  | Other Support Services
| 561910 | Packaging and Labeling Services | WOSB
| 561920 | Convention and Trade Show Organizers | WOSB
| 561990 | All Other Support Services | WOSB
5622 |  | Waste Treatment and Disposal
| 562211 | Hazardous Waste Treatment and Disposal | WOSB
| 562212 | Solid Waste Landfill | WOSB
| 562213 | Solid Waste Combustors and Incinerators | WOSB
| 562219 | Other Nonhazardous Waste Treatment and Disposal | WOSB
5629 |  | Remediation and Other Waste Management Services
| 562910 | Remediation Services | WOSB
| 562920 | Materials Recovery Facilities | WOSB
| 562991 | Septic Tank and Related Services | WOSB
| 562998 | All Other Miscellaneous Waste Management Services | WOSB
6113 |  | Colleges, Universities, and Professional Schools
| 611310 | Colleges, Universities, and Professional Schools | WOSB
6114 |  | Business Schools and Computer and Management Training
| 611410 | Business and Secretarial Schools | WOSB
| 611420 | Computer Training | WOSB
| 611430 | Professional and Management Development Training | WOSB
6116 |  | Other Schools and Instruction
| 611610 | Fine Arts Schools | WOSB
| 611620 | Sports and Recreation Instruction | WOSB
| 611630 | Language Schools | WOSB
| 611691 | Exam Preparation and Tutoring | WOSB
| 611692 | Automobile Driving Schools | WOSB
| 611699 | All Other Miscellaneous Schools and Instruction | WOSB
6117 |  | Educational Support Services
| 611710 | Educational Support Services | WOSB
6211 |  | Offices of Physicians
| 621111 | Offices of Physicians (except Mental Health Specialists) | WOSB
| 621112 | Offices of Physicians, Mental Health Specialists | WOSB
6214 |  | Outpatient Care Centers
| 621410 | Family Planning Centers | WOSB
| 621420 | Outpatient Mental Health and Substance Abuse Centers | WOSB
| 621491 | HMO Medical Centers | WOSB
| 621492 | Kidney Dialysis Centers | WOSB
| 621493 | Freestanding Ambulatory Surgical and Emergency Centers | WOSB
| 621498 | All Other Outpatient Care Centers | WOSB
6215 |  | Medical and Diagnostic Laboratories
| 621511 | Medical Laboratories | WOSB
| 621512 | Diagnostic Imaging Centers | WOSB
6219 |  | Other Ambulatory Health Care Services. |
| 621910 | Ambulance Services | WOSB
| 621991 | Blood and Organ Banks | WOSB
| 621999 | All Other Miscellaneous Ambulatory Health Care Services | WOSB
6221 |  | General Medical and Surgical Hospitals
| 622110 | General Medical and Surgical Hospitals | WOSB
6231 |  | Nursing Care Facilities (Skilled Nursing Facilities)
| 623110 | Nursing Care Facilities (Skilled Nursing Facilities) | WOSB
6242 |  | Community Food and Housing, and Emergency and Other Relief Services
| 624210 | Community Food Services | WOSB
| 624221 | Temporary Shelters | WOSB
| 624229 | Other Community Housing Services | WOSB
| 624230 | Emergency and Other Relief Services | WOSB
7112 |  | Spectator Sports
| 711211 | Sports Teams and Clubs | WOSB
| 711212 | Racetracks | WOSB
| 711219 | Other Spectator Sports | WOSB
7113 |  | Promoters of Performing Arts, Sports, and Similar Events
| 711310 | Promoters of Performing Arts, Sports, and Similar Events with Facilities | WOSB
| 711320 | Promoters of Performing Arts, Sports, and Similar Events without Facilities | WOSB
7114 |  | Agents and Managers for Artists, Athletes, Entertainers, and Other Public Figures
| 711410 | Agents and Managers for Artists, Athletes, Entertainers, and Other Public Figures | WOSB
7115 |  | Independent Artists, Writers, and Performers
| 711510 | Independent Artists, Writers, and Performers | WOSB
7211 |  | Traveler Accommodation
| 721110 | Hotels (except Casino Hotels) and Motels | WOSB
| 721120 | Casino Hotels | WOSB
| 721191 | Bed-and-Breakfast Inns | WOSB
| 721199 | All Other Traveler Accommodation | WOSB
7212 |  | RV (Recreational Vehicle) Parks and Recreational Camps
| 721211 | RV (Recreational Vehicle) Parks and Campgrounds | WOSB
| 721214 | Recreational and Vacation Camps (except Campgrounds) | WOSB
7225 |  | Restaurants and Other Eating Places
| 722511 | Full-Service Restaurants | WOSB
| 722513 | Limited-Service Restaurants | WOSB
| 722514 | Cafeterias, Grill Buffets, and Buffets | WOSB
| 722515 | Snack and Nonalcoholic Beverage Bars | WOSB
8111 |  | Automotive Repair and Maintenance
| 811111 | General Automotive Repair | WOSB
| 811112 | Automotive Exhaust System Repair | WOSB
| 811113 | Automotive Transmission Repair | WOSB
| 811118 | Other Automotive Mechanical and Electrical Repair and Maintenance | WOSB
| 811121 | Automotive Body, Paint, and Interior Repair and Maintenance | WOSB
| 811122 | Automotive Glass Replacement Shops | WOSB
| 811191 | Automotive Oil Change and Lubrication Shops | WOSB
| 811192 | Car Washes | WOSB
| 811198 | All Other Automotive Repair and Maintenance | WOSB
8112 |  | Electronic and Precision Equipment Repair and Maintenance
| 811211 | Consumer Electronics Repair and Maintenance | WOSB
| 811212 | Computer and Office Machine Repair and Maintenance | WOSB
| 811213 | Communication Equipment Repair and Maintenance | WOSB
| 811219 | Other Electronic and Precision Equipment Repair and Maintenance | WOSB
8113 |  | Commercial and Industrial Machinery and Equipment (except Automotive and Electronic) Repair and Maintenance
| 811310 | Commercial and Industrial Machinery and Equipment (except Automotive and Electronic) Repair and Maintenance | WOSB
8121 |  | Personal Care Services
| 812111 | Barber Shops | WOSB
| 812112 | Beauty Salons | WOSB
| 812113 | Nail Salons | WOSB
| 812191 | Diet and Weight Reducing Centers | WOSB
| 812199 | Other Personal Care Services | WOSB
8123 |  | Drycleaning and Laundry Services
| 812310 | Coin-Operated Laundries and Drycleaners | WOSB
| 812320 | Drycleaning and Laundry Services (except Coin-Operated) | WOSB
| 812331 | Linen Supply | WOSB
| 812332 | Industrial Launderers | WOSB
8129 |  | Other Personal Services
| 812910 | Pet Care (except Veterinary) Services | WOSB
| 812921 | Photofinishing Laboratories (except One-Hour) | WOSB
| 812922 | One-Hour Photofinishing | WOSB
| 812930 | Parking Lots and Garages | WOSB
| 812990 | All Other Personal Services | WOSB
8131 |  | Religious Organizations
| 813110 | Religious Organizations | WOSB
8139 |  | Business, Professional, Labor, Political, and Similar Organizations
| 813910 | Business Associations | WOSB
| 813920 | Professional Organizations | WOSB
| 813930 | Labor Unions and Similar Labor Organizations | WOSB
| 813940 | Political Organizations | WOSB
| 813990 | Other Similar Organizations (except Business, Professional, Labor, and Political Organizations) | WOSB

Table 3, 2017 NAICS Codes Authorized for Use under the WOSB Program—EDWOSB, shows all 80 six-digit NAICS codes authorized for use for EDWOSB set-aside and sole source procurements under the WOSB Program.

Table 3—2017 NAICS Codes Authorized for Use Under the WOSB Program—EDWOSB
4-Digit | 6-Digit | Economically disadvantaged women-owned small business 2017 NAICS description | WOSB/ EDWOSB
3152 |  | Cut and Sew Apparel Manufacturing
| 315210 | Cut and Sew Apparel Contractors | EDWOSB
| 315220 | Men's and Boys' Cut and Sew Apparel Manufacturing | EDWOSB
| 315240 | Women's, Girls', and Infants' Cut and Sew Apparel Manufacturing | EDWOSB
| 315280 | Other Cut and Sew Apparel Manufacturing | EDWOSB
3219 |  | Other Wood Product Manufacturing
| 321911 | Wood Window and Door Manufacturing | EDWOSB
| 321912 | Cut Stock, Resawing Lumber, and Planing | EDWOSB
| 321918 | Other Millwork (including Flooring) | EDWOSB
| 321920 | Wood Container and Pallet Manufacturing | EDWOSB
| 321991 | Manufactured Home (Mobile Home) Manufacturing | EDWOSB
| 321992 | Prefabricated Wood Building Manufacturing | EDWOSB
| 321999 | All Other Miscellaneous Wood Product Manufacturing | EDWOSB
3259 |  | Other Chemical Product and Preparation Manufacturing
| 325910 | Printing Ink Manufacturing | EDWOSB
| 325920 | Explosives Manufacturing | EDWOSB
| 325991 | Custom Compounding of Purchased Resins | EDWOSB
| 325992 | Photographic Film, Paper, Plate, and Chemical Manufacturing | EDWOSB
| 325998 | All Other Miscellaneous Chemical Product and Preparation Manufacturing | EDWOSB
3333 |  | Commercial and Service Industry Machinery Manufacturing
| 333314 | Optical Instrument and Lens Manufacturing | EDWOSB
| 333316 | Photographic and Photocopying Equipment Manufacturing | EDWOSB
| 333318 | Other Commercial and Service Industry Machinery Manufacturing | EDWOSB
3342 |  | Communications Equipment Manufacturing
| 334210 | Telephone Apparatus Manufacturing | EDWOSB
| 334220 | Radio and Television Broadcasting and Wireless Communications Equipment Manufacturing | EDWOSB
| 334290 | Other Communications Equipment Manufacturing | EDWOSB
3353 |  | Electrical Equipment Manufacturing
| 335311 | Power, Distribution, and Specialty Transformer Manufacturing | EDWOSB
| 335312 | Motor and Generator Manufacturing | EDWOSB
| 335313 | Switchgear and Switchboard Apparatus Manufacturing | EDWOSB
| 335314 | Relay and Industrial Control Manufacturing | EDWOSB
3359 |  | Other Electrical Equipment and Component Manufacturing
| 335911 | Storage Battery Manufacturing | EDWOSB
| 335912 | Primary Battery Manufacturing | EDWOSB
| 335921 | Fiber Optic Cable Manufacturing | EDWOSB
| 335929 | Other Communication and Energy Wire Manufacturing | EDWOSB
| 335931 | Current-Carrying Wiring Device Manufacturing | EDWOSB
| 335932 | Noncurrent-Carrying Wiring Device Manufacturing | EDWOSB
| 335991 | Carbon and Graphite Product Manufacturing | EDWOSB
| 335999 | All Other Miscellaneous Electrical Equipment and Component Manufacturing | EDWOSB
3372 |  | Office Furniture (including Fixtures) Manufacturing |
| 337211 | Wood Office Furniture Manufacturing | EDWOSB
| 337212 | Custom Architectural Woodwork and Millwork Manufacturing | EDWOSB
| 337214 | Office Furniture (except Wood) Manufacturing | EDWOSB
| 337215 | Showcase, Partition, Shelving, and Locker Manufacturing | EDWOSB
4841 |  | General Freight Trucking |
| 484110 | General Freight Trucking, Local | EDWOSB
| 484121 | General Freight Trucking, Long-Distance, Truckload | EDWOSB
| 484122 | General Freight Trucking, Long-Distance, Less Than Truckload | EDWOSB
4885 |  | Freight Transportation Arrangement |
| 488510 | Freight Transportation Arrangement | EDWOSB
4889 |  | Other Support Activities for Transportation |
| 488991 | Packing and Crating | EDWOSB
| 488999 | All Other Support Activities for Transportation | EDWOSB
5173 |  | Wired and Wireless Telecommunications Carriers |
| 517311 | Wired Telecommunications Carriers | EDWOSB
5311 |  | Lessors of Real Estate |
| 531110 | Lessors of Residential Buildings and Dwellings | EDWOSB
| 531120 | Lessors of Nonresidential Buildings (except Miniwarehouses) | EDWOSB
| 531130 | Lessors of Miniwarehouses and Self-Storage Units | EDWOSB
| 531190 | Lessors of Other Real Estate Property | EDWOSB
5414 |  | Specialized Design Services |
| 541410 | Interior Design Services | EDWOSB
| 541420 | Industrial Design Services | EDWOSB
| 541430 | Graphic Design Services | EDWOSB
| 541490 | Other Specialized Design Services | EDWOSB
5611 |  | Office Administrative Services |
| 561110 | Office Administrative Services | EDWOSB
5614 |  | Business Support Services |
| 561410 | Document Preparation Services | EDWOSB
| 561421 | Telephone Answering Services | EDWOSB
| 561422 | Telemarketing Bureaus and Other Contact Centers | EDWOSB
| 561431 | Private Mail Centers | EDWOSB
| 561439 | Other Business Service Centers (including Copy Shops) | EDWOSB
| 561440 | Collection Agencies | EDWOSB
| 561450 | Credit Bureaus | EDWOSB
| 561491 | Repossession Services | EDWOSB
| 561492 | Court Reporting and Stenotype Services | EDWOSB
| 561499 | All Other Business Support Services | EDWOSB
5621 |  | Waste Collection |
| 562111 | Solid Waste Collection | EDWOSB
| 562112 | Hazardous Waste Collection | EDWOSB
| 562119 | Other Waste Collection | EDWOSB
6115 |  | Technical and Trade Schools |
| 611511 | Cosmetology and Barber Schools | EDWOSB
| 611512 | Flight Training | EDWOSB
| 611513 | Apprenticeship Training | EDWOSB
| 611519 | Other Technical and Trade Schools | EDWOSB
6243 |  | Vocational Rehabilitation Services
| 624310 | Vocational Rehabilitation Services | EDWOSB
7223 |  | Special Food Services
| 722310 | Food Service Contractors | EDWOSB
| 722320 | Caterers | EDWOSB
| 722330 | Mobile Food Services | EDWOSB
8114 |  | Personal and Household Goods Repair and Maintenance
| 811411 | Home and Garden Equipment Repair and Maintenance | EDWOSB
| 811412 | Appliance Repair and Maintenance | EDWOSB
| 811420 | Reupholstery and Furniture Repair | EDWOSB
| 811430 | Footwear and Leather Goods Repair | EDWOSB
| 811490 | Other Personal and Household Goods Repair and Maintenance | EDWOSB

SBA will post the lists of designated 2017 NAICS codes set forth in this Notice on the WOSB Program's Web page on SBA's Web site, at www.sba.gov/wosb.

Robb N. Wong,
Associate Administrator, Office of Government Contracting and Business Development.

[FR Doc. 2017-21925 Filed 10-10-17; 8:45 am]

BILLING CODE 8025-01-P